DEPARTMENT OF HEALTH AND HUMAN SERVICES

Centers for Medicare & Medicaid Services

[Document Identifier: CMS-10106]

Agency Information Collection Activities: Proposed Collection; Comment Request; Correction

AGENCY: Centers for Medicare & Medicaid Services (CMS), HHS.

ACTION: Notice, correction.

SUMMARY: On June 12, 2025, CMS published a notice in the Federal Register seeking comment on a collection of information concerning CMS-10106 (OMB control number 0938-0930) titled “Medicare Authorization to Disclose Personal Health Information.” The number of total annual responses is incorrectly listed. This document corrects the error.

FOR FURTHER INFORMATION CONTACT: William N. Parham, III, (410) 786-4669.

SUPPLEMENTARY INFORMATION:

I. Background

In the June 12, 2025, issue of the Federal Register (90 FR 24803), we published a Paperwork Reduction Act notice requesting a 60-day public comment period for the information collection request identified under CMS-10106, OMB control number 0938-0930, and titled “Medicare Authorization to Disclose Personal Health Information.”

II. Explanation of Error

In the June 12, 2025 (90 FR 24803) notice, the number listed for the Total Annual Responses is incorrect. The incorrect number is listed language is located in the right column, line 18 on page 24804, “Total Annual Responses: 1,00,000.” All the other information contained in the June 12, 2025, notice is correct and remains unchanged. The related public comment period remains in effect and ends August 11, 2025.

III. Correction of Error

In FR Doc. 2025-10650 of June 12, 2025 (90 FR 24803), the language in the right column, line 18 on page 24804, “Total Annual Responses: 1,00,000.”, is corrected to read as follows:

“Total Annual Responses: 1,000,000.”

William N. Parham, III,
Director, Division of Information Collections and Regulatory Impacts, Office of Strategic Operations and Regulatory Affairs.

[FR Doc. 2025-12567 Filed 7-3-25; 8:45 am]

BILLING CODE 4120-01-P